DEPARTMENT OF THE INTERIOR

Bureau of Land Management

[NV-930-1430-ET; N-62297]

Cancellation of Proposed Withdrawal; Nevada

AGENCY: Bureau of Land Management, Interior.

ACTION: Notice.

SUMMARY: The Bureau of Land Management has canceled its withdrawal application to protect resource values and open space in southern Washoe County.

FOR FURTHER INFORMATION CONTACT: Dennis J. Samuelson, BLM Nevada State Office, P.O. Box 12000, Reno, Nevada 89520, 775-861-6532.

SUPPLEMENTARY INFORMATION: A Notice of Proposed Withdrawal was published as FR Doc. 98-18016 in the Federal Register, 63 FR 36937-36940, July 8, 1998, for the Bureau of Land Management to withdraw 15,757.14 acres of reserved Federal minerals from mining and 166,906.28 acres of public land from surface entry and mining, but not from sales, exchanges, recreation and public purposes, or mineral leasing to protect resource values and open space in the southern Washoe County urban, suburban, and rural residential areas. This proposed withdrawal has been superseded by a subsequent proposal.

The segregative effect for the lands described in the notice terminated in accordance with said notice on July 7, 2000, subject to valid existing rights, the provisions of existing withdrawals, other segregations of record, and the requirements of applicable law.

Dated: February 1, 2001.
Jim Stobaugh,
Lands Team Lead.

[FR Doc. 01-3241 Filed 2-7-01; 8:45 am]

BILLING CODE 4310-HC-P